DEPARTMENT OF DEFENSE

Department of the Air Force

HQ USAF Scientific Advisory Board

AGENCY: Department of the Air Force, DoD.

ACTION: Notice of meeting.

SUMMARY: Pursuant to Public Law 92-463, notice is hereby given of the forthcoming meeting of the 2002 study on Immediate Attack Deep in Hostile Territory. The purpose of the meeting is to allow the SAB and study leadership to brief the Secretary of the Air Force on the results of their study. Because classified and contractor-proprietary information will be discussed, this meeting will be closed to the public.

DATES: August 13, 2002.

ADDRESSES: The Pentagon, Room 4E869, Washington, DC.

FOR FURTHER INFORMATION CONTACT: Major John Pernot, Air Force Scientific Advisory Board Secretariat, 1180 Air Force Pentagon, Rm 5D982, Washington DC 20330-1180, (703) 697-4811.

Pamela D. Fitzgerald,
Air Force Federal Register Liaison Officer.

[FR Doc. 02-18765 Filed 7-24-02; 8:45 am]

BILLING CODE 5001-05-P